NUCLEAR REGULATORY COMMISSION

Advisory Committee on Nuclear Waste; Notice of Meeting

The Advisory Committee on Nuclear Waste (ACNW) will hold its 137th meeting on September 25-26, 2002, at the Texas Station Hotel, Amaryllis Room, 2101 Texas Star Lane, North Las Vegas, Nevada.

The entire meeting will be open to public attendance. The schedule for this meeting is as follows:

Wednesday, September 25, 2002

A. 8:30-8:40 a.m.: Opening Statement (Open)—The Chairman will open the meeting with brief opening remarks, outline the topics to be discussed, and indicate several items of interest.

B. 8:40-9:40 a.m.: Status of KTI Issue Resolution (Open)—The Committee will receive an information briefing by NRC staff on the status of DOE/NRC issue resolution.

C. 10-11 a.m.: Discussion of Integrated Issue Resolution Status Report (Open)—The Committee will receive a status briefing from NRC staff on the forthcoming NUREG-1762.

D. 11-12 Noon: NRC Review of Public Comments Received on the Yucca Mountain Review Plan (Open)—The Committee will receive a briefing by NRC staff on public comments received on the Yucca Mountain Review Plan (NUREG-1804).

E. 1-2 p.m.: Overview of Well Drilling in the Amargosa Desert Area (Open)—The Committee will receive an information briefing by an NRC staff representative on the analysis of well drilling activity in the Amargosa Desert Area covering the last 100 years.

F. 2-4:30 p.m.: Preparation of ACNW Reports (Open)—The Committee will discuss proposed reports on the following topics:

• Orphan Sources

• KTI Status Report

• Integrated IRSR

• Public Outreach

G. 4:30-6 p.m.: Stakeholder Interactions (Open)—The Committee will reserve this time for interactions with stakeholders and meeting participants.

Thursday, September 26, 2002

H. 8:30-8:35 a.m.: Opening Statement (Open)—The ACNW Chairman will make opening remarks regarding the conduct of the meeting.

I. 8:35-4 p.m.: U.S. Department of Energy (DOE) Scientific Update for Selected Activities of the Geologic Repository Program at Yucca Mountain (Open)—The Committee will hear updates from DOE representatives on the following topics:

• DOE Opening Remarks

• Rebaselining of DOE Yucca Mountain Program

• Final Environmental Impact Statement for Yucca Mountain

• Repository Design Update

• Proposed Resolution of Anomalous Chlorine-36 Indications.

• Microbial-Induced Corrosion Considerations

J. 4:15-5:15 p.m.: Stakeholder Interactions (Open)—The Committee will reserve this time for interactions with stakeholders and meeting participants.

K. 5:15-6:45 p.m.: Preparation of ACNW Reports (Open)—The Committee will discuss proposed reports on the following topics:

• Orphan Sources

• KTI Status Report

• Integrated IRSR

• Public Outreach

• DOE Scientific Update (tentative)

L. 6:45-7 p.m.: Miscellaneous (Open)—The Committee will discuss matters related to the conduct of Committee activities and matters and specific issues that were not completed during previous meetings, as time and availability of information permit.

Procedures for the conduct of and participation in ACNW meetings were published in the Federal Register on October 3, 2001 (66 FR 50461). In accordance with these procedures, oral or written statements may be presented by members of the public; electronic recordings will be permitted only during those portions of the meeting that are open to the public; and questions may be asked by members of the Committee, its consultants, staff, and the public. Persons desiring to make oral statements should notify Mr. Howard J. Larson, ACNW (Telephone 301/415-6805), between 8 a.m. and 4 p.m. EDT, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Howard J. Larson as to their particular needs.

Further information regarding topics to be discussed, whether the meeting has been canceled or rescheduled, the Chairman's ruling on requests for the opportunity to present oral statements and the time allotted therefor can be obtained by contacting Mr. Howard J. Larson.

ACNW meeting notices, meeting transcripts, and letter reports are now available for downloading or viewing on the Internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EDT, at least 10 days before the meeting to ensure the availability of this service. Individuals or organizations requesting this service will be responsible for telephone line charges and for providing the equipment and facilities that they use to establish the videoteleconferencing link. The availability of videoteleconferencing services is not guaranteed.

Dated: September 9, 2002.
Andrew L. Bates,
Advisory Committee Management Officer.

[FR Doc. 02-23362 Filed 9-12-02; 8:45 am]

BILLING CODE 7590-01-P